DEPARTMENT OF VETERANS AFFAIRS

Advisory Committee on Disability Compensation, Notice of Meeting

The Department of Veterans Affairs (VA) gives notice under the Federal Advisory Committee Act, 5 U.S.C. app. 2., that a virtual meeting of the Advisory Committee on Disability Compensation (Committee) will begin and end as follows:

Dates | Times | Open session
Tuesday, May 31, 2022 | 11:00 a.m.-12:00 p.m. Eastern Standard Time (EST) | Yes.
Wednesday, June 1, 2022 | 11:00 a.m.-12:00 p.m. (EST) | Yes.

The meeting sessions are open to the public.

The purpose of the Committee is to advise the Secretary of Veterans Affairs on the maintenance and periodic readjustment of the VA Schedule for Rating Disabilities.

The Committee is to assemble and review relevant information relating to the nature and character of disabilities arising during service in the Armed Forces, provide an ongoing assessment of the effectiveness of the rating schedule, and give advice on the most appropriate means of responding to the needs of Veterans relating to disability compensation.

The agenda will include deliberations and voting on recommendations that will be included in the 2022 Biennial Report from 11:00 a.m. to 12:00 p.m.

No time will be allocated at this virtual meeting for receiving oral presentations from the public. The public may submit one-page summaries of their written statements for the Committee's review. Public comments may be received no later than May 17, 2022, for inclusion in the official meeting record. Please send these comments to Sian Roussel of the Veterans Benefits Administration, Compensation Service, at sian.roussel@va.gov.

Members of the public who wish to obtain a copy of the agenda should contact Sian Roussel at Sian.Roussel@va.gov and provide their name, professional affiliation, email address and phone number. The call-in number (United States, Chicago) for those who would like to attend the meeting (audio only) is +1 872-701-0185; phone conference ID: 885 049 439#.

Dated: May 11, 2022.
Jelessa M. Burney,
Federal Advisory Committee Management Officer.

[FR Doc. 2022-10527 Filed 5-16-22; 8:45 am]

BILLING CODE P